DEPARTMENT OF JUSTICE

Notice of Lodging of Consent Decree

Pursuant to Comprehensive Environmental Response, Compensation and Liability Act

Notice is hereby given that on October 15, 2008, a proposed consent decree (“Consent Decree”) in United States and State of Maine v. J. K. Wright, Inc. and J Kenton Wright, Civil Action No. 07-cv-116-B-W, was lodged with the United States District Court for the District of Maine.

In this action the United States and the State of Maine sought reimbursement of past response costs pursuant to Section 107(a) of CERCLA, 42 U.S.C. 9607(a), incurred at the Hows Corner Superfund Site in Plymouth, Maine (“Site”). The United States filed its complaint pursuant to section 107 of CERCLA against the Defendants on August 8, 2007. The proposed Consent Decree resolves the claims asserted in the complaint. Pursuant to the proposed Consent Decree Defendants agree to pay $28,220 to the United States and $5,780 to the State of Maine, in reimbursement of past response costs at the Site.

The Department of Justice will receive for a period of 30 days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States and State of Maine v. J. K. Wright, Inc. and J Kenton Wright, Civil Action No. 07-cv-116-B-W, D.J. Ref. 90-11-3-1733/8.

The Consent Decree may be examined at the Office of the United States Attorney, 99 Franklin Street, 2nd Floor Bangor, ME 04401, and at U.S. EPA Region 1, One Congress Street, Suite 1100, Boston, MA 02114. During the public comment period, the Consent Decree may also be examined on the following Department of Justice Web site: http://www.usdoj.gov/enrd/Consent_Decrees.html . A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $4.25 (25 cents per page reproduction cost) payable to the U.S. Treasury or, if by e-mail or fax, forward a check in that amount to the Consent Decree Library at the stated address.

Ronald Gluck,
Assistant Chief, Environmental Enforcement Section, Environment and Natural Resources Division.

[FR Doc. E8-25069 Filed 10-21-08; 8:45 am]

BILLING CODE 4410-15-P